DEPARTMENT OF COMMERCE

National Telecommunications and Information Administration

First Responder Network Authority

First Responder Network Authority Combined Committee and Board Meeting

AGENCY: First Responder Network Authority (FirstNet Authority), U.S. Department of Commerce.

ACTION: Notice of public meeting of the FirstNet Authority Board.

SUMMARY: The Board of the FirstNet Authority (Board) will convene an open public meeting of the Board and the Board Committees on September 18, 2019.

DATES: A joint meeting of the four FirstNet Authority Board Committees and the FirstNet Authority Board will be held on September 18, 2019, between 11:00 a.m. and 1:00 p.m. (EDT). The meeting of the FirstNet Authority Board and the Governance and Personnel, Technology, Public Safety Advocacy, and Finance Committees will be open to the public from 11:00 a.m. to 1:00 p.m. (EDT).

ADDRESSES: The meeting on September 18, 2019 will be held at the Park Hyatt Washington, 1201 24th Street NW, Washington, DC 20037. Members of the public may listen to the meeting by dialing toll free 1-888-324-6860 and entering participant code 2951211#. The meeting will also be webcast. Please refer to the FirstNet Authority's website at www.firstnet.gov for webcast instructions and other information.

FOR FURTHER INFORMATION CONTACT: Karen Miller-Kuwana, Board Secretary, FirstNet Authority, 12201 Sunrise Valley Drive, M/S 243, Reston, VA 20192; telephone: (571) 665-6177; email: Karen.Miller-Kuwana@firstnet.gov. Please direct media inquiries to Ryan Oremland at (571) 665-6186.

SUPPLEMENTARY INFORMATION: This notice informs the public that the FirstNet Authority Board and the Board Committees will convene an open public meeting on September 18, 2019.

Background: The Middle Class Tax Relief and Job Creation Act of 2012 (Pub. L. 112-96, Title VI, 126 Stat. 256 (codified at 47 U.S.C. 1401 et seq.)) (Act) established the FirstNet Authority as an independent authority within the National Telecommunications and Information Administration that is headed by a Board. The Act directs the FirstNet Authority to ensure the building, deployment, and operation of a nationwide, interoperable public safety broadband network. The FirstNet Authority Board is responsible for making strategic decisions regarding the FirstNet Authority's operations. The FirstNet Authority Board held its first public meeting on September 25, 2012.

Matters to be Considered: The FirstNet Authority will post a detailed agenda for the Combined Board Committees and Board Meeting on its website, www.firstnet.gov, prior to the meetings. The agenda topics are subject to change. Please note that the subjects that will be discussed by the Committees and the Board may involve commercial or financial information that is privileged or confidential or other legal matters affecting the FirstNet Authority. As such, the Committee Chairs and Board Chair may call for a vote to close the meetings only for the time necessary to preserve the confidentiality of such information, pursuant to 47 U.S.C. 1424(e)(2).

Times and Dates of Meeting: A combined meeting of the FirstNet Authority Board and FirstNet Authority Board Committees will be held on September 18, 2019 between 11:00 a.m. and 1:00 p.m. (EDT). The meeting of the FirstNet Authority Board and the Governance and Personnel, Technology, Public Safety Advocacy, and Finance Committees will be open to the public from 11:00 a.m. to 1:00 p.m. (EDT). The times listed above are subject to change. Please refer to the FirstNet Authority's website at www.firstnet.gov for the most up-to-date information.

Place: The meetings on September 18, 2019 will be held at the Park Hyatt Washington, 1201 24th Street NW, Washington, DC 20037. Members of the public may listen to the meeting by dialing toll free 1-888-324-6860 and entering participant code 2951211#. The meeting will also be webcast. Please refer to the FirstNet Authority's website at www.firstnet.gov for webcast instructions and other information.

Other Information: These meetings are open to the public and press on a first-come, first-served basis. Space is limited. To ensure an accurate headcount, all expected attendees are asked to provide notice of intent to attend by sending an email to BoardRSVP@firstnet.gov. If the number of RSVPs indicates that expected attendance has reached its capacity, the FirstNet Authority will respond to all subsequent notices indicating that capacity has been reached and that in-person viewing may no longer be available but that the meeting may still be viewed by webcast as detailed below. For access to the meetings, valid government issued photo identification may be requested for security reasons.

The Combined Committee and Board Meetings are accessible to people with disabilities. Individuals requiring accommodations, such as sign language interpretation or other ancillary aids, are asked to notify Ms. Miller-Kuwana by telephone at (571) 665-6177 or email at Karen.Miller-Kuwana@firstnet.gov at least five (5) business days before the applicable meeting.

The meeting will also be webcast. Please refer to the FirstNet Authority's website at www.firstnet.gov for webcast instructions and other information. Viewers experiencing any issues with the live webcast may email support@sparkstreetdigital.com or call (202) 684-3361 x3 for support. A variety of automated troubleshooting tests are also available via the “Troubleshooting Tips” button on the webcast player. The meetings will also be available to interested parties by phone. To be connected to the meetings in listen-only mode by telephone, please dial toll free 1-888-324-6860 and enter participant code 2951211#. If you experience technical difficulty, please contact the Conferencing Center customer service at 1-866-900-1011.

Records: The FirstNet Authority maintains records of all Board proceedings. Minutes of the Board Meeting and the Committee meetings will be available at www.firstnet.gov.

Dated: August 30, 2019.
Karen Miller-Kuwana,
Board Secretary, FirstNet Authority.

[FR Doc. 2019-19182 Filed 9-4-19; 8:45 am]

BILLING CODE 3510-TL-P